DEPARTMENT OF ENERGY

10 CFR Part 431

[Docket Number: EE-2008-BT-STD-0006]

RIN 1904-AB47

Energy Conservation Program: Energy Conservation Standards for Residential Central Air Conditioners and Heat Pumps

AGENCY: Department of Energy, Office of Energy Efficiency and Renewable Energy.

ACTION: Proposed rule; notice of extension of public comment period.

SUMMARY: On March 25, 2010, the U.S. Department of Energy (DOE) announced that it would hold a public meeting to discuss and receive comments on the product classes that DOE plans to analyze for purposes of establishing energy conservation standards for residential central air conditioners and heat pumps; the analytical framework, models, and tools that DOE is using to evaluate amended standards for these products; the results of preliminary analyses performed by DOE for these products; and potential energy conservation standard levels derived from these analyses that DOE could consider for these products. DOE also encouraged written comments on these subjects. This document announces an extension of the time period for submitting comments on the energy conservation standards notice of public meeting (NOPM) and availability of the preliminary technical support document for central air conditioners and heat pumps. The comment period is extended to May 17, 2010.

DATES: DOE will accept comments, data, and information regarding the energy conservation standards NOPM for residential central air conditioners and heat pumps received no later than May 17, 2010.

ADDRESSES: Any comments submitted must identify the “NOPM for Energy Conservation Standards for Residential Central Air Conditioners and Heat Pumps” and provide the appropriate docket number EE-2008-BT-STD-0006 and/or RIN number 1904-AB47. Comments may be submitted using any of the following methods:

• Federal eRulemaking Portal: http://www.regulations.gov. Follow the instructions for submitting comments.

• E-mail: Res_Central_AC_HP@ee.doe.gov (NOPM). Include docket number EE-2008-BT-STD-0006 and/or RIN 1904-AB47, as appropriate, in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, visit the U.S. Department of Energy, Resource Room of the Building Technologies Program, 950 L'Enfant Plaza, SW., 6th Floor, Washington, DC 20024, (202) 586-2945, between 9 a.m. and 4 p.m. Monday through Friday, except Federal holidays. Please call Ms. Brenda Edwards at the above telephone number for additional information regarding visiting the Resource Room.

FOR FURTHER INFORMATION CONTACT: Mr. Wes Anderson, U.S. Department of Energy, Office of Energy Efficiency and Renewable Energy, Building Technologies Program, EE-2J, 1000 Independence Avenue, SW., Washington, DC 20585-0121. Telephone: (202) 586-7335. E-mail: Wes.Anderson@ee.doe.gov.

Ms. Elizabeth Kohl, U.S. Department of Energy, Office of the General Counsel, GC-71, 1000 Independence Avenue, SW., Washington, DC, 20585-0121. Telephone: (202) 586-7796. E-mail: Elizabeth.Kohl@hq.doe.gov.

SUPPLEMENTARY INFORMATION: On March 25, 2010, DOE published a Federal Register notice announcing the availability of its preliminary technical support document for energy conservation standards for residential central air conditioners and heat pumps, as well as a public meeting to discuss and receive comment on the preliminary analysis. 75 FR 14368. The NOPM provides for the submission of comments by May 10, 2010. The public meeting to discuss the preliminary analysis was held on for May 5, 2010. A number of commenters stated at the public meeting that the time between the public meeting on May 5, 2010 and the end of the comment period on May 10, 2010 was not sufficient to address any issues that arose during the public meeting. DOE has determined that an extension of the public comment period is appropriate and is hereby extending the comment period. DOE will consider any comments received by May 17, 2010, and deems any comments received between publication of the NOPM and May 17, 2010 to be timely submitted.

Further Information on Submitting Comments

Under 10 CFR part 1004.11, any person submitting information that he or she believes to be confidential and exempt by law from public disclosure should submit two copies: one copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on May 7, 2010.
Cathy Zoi,
Assistant Secretary, Energy Efficiency and Renewable Energy.

[FR Doc. 2010-11571 Filed 5-13-10; 8:45 am]

BILLING CODE 6450-01-P